Title 3—

The President

Proclamation 10974 of September 22, 2025

National Hispanic Heritage Month, 2025

By the President of the United States of America

A Proclamation

During National Hispanic Heritage Month, we recognize the extraordinary contributions of Hispanic-American citizens past and present—and we honor their vibrant spirit, unyielding resilience, and inspiring commitment to our shared American values.

Hispanic-American patriots have served on the front lines of our military, law enforcement, border security, and in public service. They have enlivened our communities and enthusiastically embodied our national promise—defending our sovereignty, protecting our flag, and living out the eternal values of faith, family, and freedom. Every day, my Administration is working tirelessly to bring opportunity, prosperity, and success to citizens of every background.

As we celebrate National Hispanic Heritage Month, we recognize the resounding strength and success of the Hispanic-American community. We honor their tremendous contributions to our culture, economy, and future. Above all, we recommit to making America stronger and greater than ever before.

To honor the achievements of Hispanic Americans, the Congress, by Public Law 100-402, as amended, has authorized and requested the President to issue annually a proclamation designating September 15 through October 15 as “National Hispanic Heritage Month.”

NOW, THEREFORE, I, DONALD J. TRUMP, President of the United States of America, by virtue of the authority vested in me by the Constitution and the laws of the United States, do hereby proclaim September 15 through October 15, 2025, as National Hispanic Heritage Month. I call on public officials, educators, librarians, and all Americans to observe this month with appropriate ceremonies, activities, and programs.

IN WITNESS WHEREOF, I have hereunto set my hand this twenty-second day of September, in the year of our Lord two thousand twenty-five, and of the Independence of the United States of America the two hundred and fiftieth.

[FR Doc. 2025-18708

Filed 9-24-25; 11:15 am]

Billing code 3395-F4-P